DEPARTMENT OF TRANSPORTATION

Federal Aviation Administration

Agency Information Collection Activities: Requests for Comments; Clearance of Revised Approval of Information Collection: Aviation Maintenance Technician School

AGENCY: Federal Aviation Administration (FAA), DOT.

ACTION: Notice and request for comments.

SUMMARY: In accordance with the Paperwork Reduction Act of 1995, FAA invites public comments about our intention to request the Office of Management and Budget (OMB) approval to revise an information collection. The respondents to this information collection are certificate holders or applicants. The information collected determines compliance with applicant eligibility and ensures that certificated AMTSs meet the minimum requirements for procedures and curriculum set forth by the FAA. This revised filing accounts for the recent implementation of operation specifications, corrects the current enrollment figure cited in 2016, and adds sections that were not previously included in the burden assessment.

DATES: Written comments should be submitted by June 4, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913

SUPPLEMENTARY INFORMATION: OMB Control Number: 2120-0040.

Title: Aviation Maintenance Technician Schools.

Form Numbers: FAA Form 8310-6 Aviation Maintenance Technician School Certificate and Ratings Application.

Type of Review: This is a revision and correction of the information collection approved on September 30, 2016, supporting statement for part 147.

Background: The FAA program office for part 147, the General Aviation Branch of Flight Standards, Aircraft Maintenance Division recognizes there were some discrepancies in the 2016 filing. This revised information collection corrects the September 30, 2016, supporting statement approved for part 147. The information collection burden hours and costs will be noticeably higher than posted in the 2016 supporting statement for three primary reasons:

• First, due to program changes implemented by FAA Notice N 8900.278, dated November 21, 2014, operations specifications (OpSpecs) were introduced to Title 14 of the Code of Federal Regulations (14 CFR) part 147 AMTSs. OpSpecs must be issued to institutions with part 147 certificates by July 21, 2015. This correction includes the burden added by OpSpecs not addressed in the 2016 information collection.

• Second, the current enrollment figures cited in 2016 were 12,500 students but are now 17,800 students.

• Third, some sections of part 147 were not represented as collecting information and to correct the record, the FAA is including them in this revised report.

The respondents to this information collection are part 147 certificate holders or applicants. Currently, there are 177 FAA certificated AMTSs. The information collected determines compliance with applicant eligibility and ensures that certificated AMTSs meet the minimum requirements of part 147. The information collected is focused on an AMTS' initial curriculum, instructor's qualifications, maintenance of curriculum, facilities, instructional equipment, and change of location, if applicable. Recordkeeping requirements address student attendance, tests, grades, any instruction credited under section 147.31(c), and authenticated transcripts of student's grades when credit was given based on training from a previous school. An AMTS must also keep a current progress chart for each student showing practical projects completed or to be completed in each subject.

Respondents: Part 147 AMTS Certificate applicants and Certificate holders.

Frequency: Initial certification, on occasion if changes made by AMTS, and ongoing recordkeeping.

Estimated Average Burden per Response and Estimated Total Annual Burden:

Table I—Summary Table of Estimated Annual Burden
[177 AMTS, 17,800 students]
§ 147 | Basis | Director @$56/hour | Instructor @$28/hour | Administrative @$23/hour
§ 147.5 | Initial Certification | 725 | 0 | 40
§ 147.5 | Post Certification | 93 | 0 | 8
§ 147.21 | Initial Certification | 1200 | 900 | 300
§ 147.23 | Initial Certification | 20 | 0 | 10
§ 147.23 | Post Certification | 90 | 0 | 45
§ 147.33(a) | Post Certification | 0 | 35600 | 17800
§ 147.33(b) | Post Certification | 0 | 17800 | 8900
§ 147.37 | Post Certification | 10 | 10 | 2
§ 147.38 | Post Certification | 672 | 168 | 84
§ 147.41 | Post Certification | 32 | 0 | 0
Total annual estimated part 147 burden | Initial Cert hours | 1945 | 900 | 350
| Post Cert hours | 897 | 53578 | 26839
| Total hours burden | 2842 | 54478 | 27189

Issued in Fort Worth, TX, on March 21, 2018.
Barbara L. Hall,
FAA Information Collection Clearance Officer, Performance, Policy, and Records Management Branch, ASP-110.

[FR Doc. 2018-06747 Filed 4-2-18; 8:45 am]

BILLING CODE 4910-13-P